DEPARTMENT OF AGRICULTURE

Agricultural Marketing Service

7 CFR Part 1222

[Doc. No. AMS-SC-25-0035]

Paper and Paper-Based Packaging Promotion, Research and Information Order; Continuance Referendum and Moratorium on Assessment Collection

AGENCY: Agricultural Marketing Service, USDA.

ACTION: Notification of referendum and moratorium on assessment collection.

SUMMARY: This document directs that a referendum be conducted among eligible domestic manufacturers and importers of paper and paper-based packaging to determine whether they favor continuance of the Agricultural Marketing Service's (AMS) regulations regarding a national paper and paper-based packaging research and promotion program. AMS is also announcing an immediate moratorium on the collection of assessments under the program.

DATES: This referendum will be conducted by express mail and electronic ballot from July 14, 2025, through July 25, 2025. Ballots delivered to AMS via express mail or electronic ballot must show proof of delivery by no later than 11:59 p.m. Eastern Time on July 25, 2025. Eligible persons will receive a ballot through mail and may cast a ballot through express mail or electronic ballot. Each person who is an eligible domestic manufacturer or importer at the time of the referendum and during the representative period from January 1, 2024, through December 31, 2024, shall be entitled to cast a ballot in the referendum.

ADDRESSES: Copies of the Paper and Paper-Based Packaging Promotion, Research and Information Order may be obtained from: Referendum Agent, Market Development Division, Specialty Crops Program (SCP), AMS, USDA, 1400 Independence Avenue SW, Room 1406-S, Stop 0244, Washington, DC 20250-0244, telephone: (202) 720-8085 or contact George Webster at (202) 365-4172 or via electronic mail: George.Webster@usda.gov.

FOR FURTHER INFORMATION CONTACT: George Webster, Marketing Specialist, Market Development Division, SCP, AMS, USDA, 1400 Independence Avenue SW, Room 1406-S, Stop 0244, Washington, DC 20250-0244; telephone: (202) 365-4172 or via electronic mail: George.Webster@usda.gov.

SUPPLEMENTARY INFORMATION: Pursuant to the Commodity Promotion, Research, and Information Act of 1996 (7 U.S.C. 7411-7425) (Act), it is hereby directed that a referendum be conducted to ascertain whether continuance of the Paper and Paper-Based Packaging Promotion, Research and Information Order (Order) (7 CFR part 1222) is favored by a majority of eligible domestic manufacturers and importers of paper and paper-based packaging covered under the program. Until results of the referendum are ascertained, a moratorium on the collection of assessments from domestic manufacturers and importers under the Order is announced effective immediately in order to effectuate the purposes of the Act. The Order is authorized under the Act.

The representative period for establishing voter eligibility for the referendum shall be the period from January 1, 2024, through December 31, 2024. Persons who are currently domestic manufacturers and have domestically manufactured 100,000 short tons or more of paper and paper-based packaging, and persons who are currently importers and have imported 100,000 short tons or more of paper and paper-based packaging, during the representative period are eligible to vote in the referendum. Persons who received an exemption from assessments pursuant to § 1222.53 for the entire representative period are ineligible to vote. The U.S. Department of Agriculture (USDA) will provide the option for electronic balloting. The referendum will be conducted by express mail and electronic ballot from July 14, 2025, through July 25, 2025. Further details will be provided in the ballot instructions.

Section 518 of the Act (7 U.S.C. 7411-7425) authorizes continuance referenda. Under § 1222.81(b) of the Order, USDA must conduct a referendum no later than seven years after the program became effective and every seven years thereafter; at the request of the Board established in this Order; at the request of 10 percent or more of the number of persons eligible to vote in a referendum as set forth under the Order; or at any time as determined by the Secretary to determine if persons subject to assessment favor continuance of the program. In January 2025, USDA received a petition requesting a referendum, which was signed by more than the required 10 percent of eligible entities. This request initiated this referendum process. Effective immediately, there will be a moratorium on the collection of assessments while USDA conducts the continuance referendum, per the request of the Paper and Packaging Board and in order to effectuate the purposes of the Act.

USDA would continue the Order if it is favored by a majority of domestic manufacturers and importers of paper and paper-based packaging voting in the referendum who also represent a majority of the volume of paper and paper-based packaging represented in the referendum and who, during the representative time period, have been engaged in the manufacturing or importation of paper and paper-based packaging. If continuance of the Order is favored, USDA would also lift the moratorium on assessment collection. If, as a result of the referendum, the Secretary determines that the Order is not approved, USDA will comply with the termination procedures at 7 CFR 1222.82.

In accordance with the Paperwork Reduction Act of 1995 (44 U.S.C. chapter 35), the referendum ballot has been approved by the Office of Management and Budget (OMB) and assigned OMB No. 0581-0093. It has been estimated that approximately 40 entities will be eligible to vote in the referendum. It will take an average of 15 minutes for each voter to read the voting instructions and complete the referendum ballot.

Referendum Order

George Webster, Marketing Specialist, and Kelly Robertson, Acting Branch Chief, Mid-Atlantic Region Branch, Market Development Division, SCP, AMS, USDA, Stop 0244, Room 1406-S, 1400 Independence Avenue SW, Washington, DC 20250-0244, are designated as the referendum agents to conduct this referendum. The referendum procedures at 7 CFR 1222.100 through 1222.108, which were issued pursuant to the Act, shall be used to conduct the referendum.

The referendum agents will express mail ballots and voting instructions, including how to vote electronically, to all known, eligible domestic manufacturers and importers prior to the first day of the voting period. Any eligible domestic manufacturer or importer who does not receive a ballot should contact a referendum agent no later than three days before the end of the voting period. Ballots delivered via express mail or electronic ballot must show proof of delivery by no later than 11:59 p.m. Eastern Time on July 25, 2025.

List of Subjects in 7 CFR Part 1222

Administrative practice and procedure, Advertising, Consumer information, Marketing agreements, Paper and paper-based-packaging promotion, Reporting and recordkeeping requirements.

(Authority: 7 U.S.C. 7411-7425; 7 U.S.C. 7401)

Erin Morris,
Associate Administrator, Agricultural Marketing Service.

[FR Doc. 2025-10053 Filed 6-2-25; 8:45 am]

BILLING CODE P